DEPARTMENT OF HOMELAND SECURITY

Failure to Maintain and Carry Out Effective Security Measures—Notice to Passengers Transiting Ninoy Aquino International Airport, Pasay City, Republic of the Philippines

AGENCY: Office of the Secretary, Department of Homeland Security.

ACTION: Notice.

SUMMARY: This notice informs the public that the Department of Homeland Security (DHS) has determined that Ninoy Aquino International Airport (MNL), Pasay City, Republic of the Philippines, does not maintain and carry out effective security measures that meet standards prescribed by the International Civil Aviation Organization (ICAO). Pursuant to this notice, all U.S. aircraft operators and foreign air carriers (and their agents) providing transportation between the United States and MNL are directed to provide written notice of this determination to any passenger purchasing a ticket for transportation between the United States and MNL in accordance with statutory requirements.

DATES: Applicable December 26, 2018.

FOR FURTHER INFORMATION CONTACT: Michael Bilello, Assistant Administrator, Strategic Communications and Public Affairs, TSA-4, Transportation Security Administration (TSA), 601 South 12th Street, Arlington, VA 20598-6004; telephone: (571) 227-2865; email: Michael.Bilello@tsa.dhs.gov.

SUPPLEMENTARY INFORMATION:

Background

Pursuant to 49 U.S.C. 44907(a), the Secretary of Homeland Security is required to assess periodically the effectiveness of the security measures maintained by foreign airports that handle air carriers that serve the United States or that may pose a “high risk of introducing danger to international air travel.” If the Secretary initially determines that a foreign airport does not maintain and carry out effective security measures, the Secretary is required to “notify the appropriate authorities of the government of the foreign country of the decision and recommend the steps necessary to bring the security measures in use at the airport up to the standard used by the Secretary [of Homeland Security] in making the assessment.” 49 U.S.C. 44907(c).

Further, upon finding that an airport does not “maintain and carry out effective security measures, the Secretary must: (a) Publish the identity of the foreign airport in the Federal Register, (b) have the identity of the airport posted and displayed prominently at all U.S. airports at which scheduled air carrier operations are provided regularly, and (c) notify the news media of the identity of the airport. 49 U.S.C. 44907(d)(l)(A). In addition, the statute requires all air carriers providing transportation between the United States and the foreign airport in question to provide written notice of the determination, either on or with the ticket, to all passengers purchasing transportation between the United States and the airport. 49 U.S.C. 44907(d)(l)(B).

Determination Regarding Security Measures

On December 26, 2018, the Secretary of Homeland Security notified the Government of the Philippines that, pursuant to 49 U.S.C. 44907, she had determined that MNL, Pasay City, Republic of the Philippines, does not maintain and carry out effective security measures in accordance with ICAO standards. This determination is based on TSA assessments that have found that security measures used at MNL do not meet the standards established by ICAO.

DHS is issuing this notice pursuant to 49 U.S.C. 44907(d)(1) to inform the public of this determination. Notice of this decision shall be displayed prominently in all U.S. airports with regularly scheduled air carrier operations. Further, DHS will notify the news media of this determination. In addition, as a result of this determination, 49 U.S.C. 44907(d)(l)(B) requires that each United States and foreign air carrier (and their agents) providing transportation between the United States and MNL will provide written notice of DHS's determination to each passenger buying a ticket for transportation between the United States and MNL.

Dated: December 18, 2018.
Kirstien M. Nielsen,
Secretary of Homeland Security.

[FR Doc. 2018-27983 Filed 12-26-18; 8:45 am]

BILLING CODE 9110-14-P